EXPORT-IMPORT BANK

Intent to Conduct a Detailed Economic Impact Analysis

AGENCY: Export-Import Bank.

ACTION: Notice.

SUMMARY: Pursuant to the Charter of the Export-Import Bank of the United States, this notice is to inform the public that the Export-Import Bank of the United States has received an application for $8.56 million in medium-term loan insurance to support the export of approximately $7.4 million worth of engineering services, grinding technology, steam heating and other mechanical equipment. The U.S. exports will enable the Brazilian company to double production at an existing facility, allowing it to produce up to 3 million liters a day of ethanol, 574 thousand metric tons a year of Distillers Dried Grains with Solubles (DDGS) and 36,500 liters a year of Corn Oil. Production of ethanol and corn oil will be sold primarily in Brazil. New production of DDGS will be sold primarily in Brazil, with smaller amounts to Europe and Asia

DATES: Comments are due 14 days from publication in the Federal Register.

ADDRESSES: Interested parties may submit comments on this transaction electronically on www.regulations.gov, or by email to economic.impact@exim.gov.

Scott Condren,
Policy Analysis.

[FR Doc. 2020-27371 Filed 12-11-20; 8:45 am]

BILLING CODE 6690-01-P